DEPARTMENT OF AGRICULTURE

Forest Service

Southeast Washington Resource Advisory Committee

AGENCY: Forest Service, USDA.

ACTION: Notice of meeting.

SUMMARY: Pursuant to the authorities in the Federal Advisory Committees Act (Pub. L. 92-463), the Southeast Washington Resource Advisory Committee (RAC) will meet on March 16, 2002 in Clarkston, Washington. The purpose of the meeting is to meet to nominate and select a chairperson, accept Bylaws and discuss the selection of Title II projects under Public Law 106-393, H.R. 2389, the Secure Rural Schools and Community Self-Determination Act of 2000, also called the “Payments to States” Act.

DATES: The meeting will be held on March 16, 2002 from 9 a.m. to 12 a.m.

ADDRESSES: The meeting will be held at the Bennett Lumber Company Conference Room, 1951 Wilma Drive, Clarkston, Washington.

FOR FURTHER INFORMATION CONTACT: Monte Fujishin, Designated Federal Official, USDA, Umatilla National Forest, Pomeroy Ranger District, 71 West Main Street, Pomeroy, WA 99347. Phone: (509) 843-1891.

SUPPLEMENTARY INFORMATION: This will be the second meeting of the committee, and will focus on nomination and selection of a chairperson, accept Committee bylaws and discuss Title II project proposals. The meeting is open to the public. Public input opportunity will be provided and individuals will have the opportunity to address the committee at that time.

Dated: February 26, 2002.
Jeff D. Blackwood,
Forest Supervisor.

[FR Doc. 02-5252 Filed 3-5-02; 8:45 am]

BILLING CODE 3410-BH-M